DEPARTMENT OF DEFENSE

Office of the Secretary

Response Systems to Adult Sexual Assault Crimes Panel (Response Systems Panel); Notice of Federal Advisory Committee Meeting

AGENCY: Department of Defense.

ACTION: Notice of meeting.

SUMMARY: Under the provisions of the Federal Advisory Committee Act of 1972 (5 U.S.C., Appendix, as amended), the Government in the Sunshine Act of 1976 (5 U.S.C. 552b, as amended), and 41 CFR 102-3.150, the Department of Defense (DoD) announces the following federal advisory committee meeting.

ADDRESSES: U.S. District Court for the District of Columbia, 333 Constitution Avenue NW., Courtroom # 20, 6th Floor, Washington, DC 20001.

DATES: A meeting of the Response Systems to Adult Sexual Assault Crimes Panel (hereafter referred to as “the Response Systems Panel”) will be held September 24-25, 2013. The Public Session will begin at 9:30 a.m. and end at 4:40 p.m. on September 24, 2013, and will begin at 8:55 a.m. and end at 5:00 p.m. on September 25, 2013.

FOR FURTHER INFORMATION CONTACT: Ms. Terri Saunders, Deputy Staff Director, Response Systems Panel, One Liberty Center, 875 N. Randolph Street, Arlington, VA 22203. Email: terri.a.saunders.civ@mail.mil. Phone: (703) 696-8990.

SUPPLEMENTARY INFORMATION: Purpose of the Meeting: At this meeting, the Panel will deliberate on the National Defense Authorization Act for Fiscal Year 2013 (Pub. L. 112-239), Section 576(a)(1) requirement to conduct an independent review and assessment of the systems used to investigate, prosecute, and adjudicate crimes involving adult sexual assault and related offenses under section 920 of title 10, United States Code (article 120 of the Uniform Code of Military Justice), for the purpose of developing recommendations regarding how to improve the effectiveness of such systems. The Panel is interested in written and oral comments from the public, including non-governmental organizations, relevant to this tasking.

Agenda: The Panel will conduct Administrative Sessions on September 24, 2013 from 9:00 a.m. to 9:30 a.m. and from 4:40 p.m. to 5:00 p.m. to address administrative matters. Additionally, the Panel will conduct an Administrative Session on September 25, 2013 from 8:30 a.m. to 8:55 a.m. Pursuant to 41 CFR 102-3.160, the public may not attend the Administrative Sessions.

Tentative Agenda:

• Role of the Commander in the Military Justice Process Overview.

• Allied Forces Military Justice Systems Overview.

• Commander and Staff Judge Advocate Perspective.

• Senior Service Judge Advocate Perspective.

• Receipt of public comments.

Availability of Materials for the Meeting: A copy of the updated agenda for the September 24-25, 2013 meeting, as well as other materials presented in the meeting, may be obtained at the meeting or from the Panel's Deputy Staff Director at terri.a.saunders.civ@mail.mil.

Public's Accessibility to the Meeting: Pursuant to 5 U.S.C. 552b and 41 CFR 102-3.140 through 102-3.165, and the availability of space, part of this meeting is open to the public. Seating is limited and is on a first-come basis.

Special Accommodations: Individuals requiring special accommodations to access the public meeting should contact the Deputy Staff Director at terri.a.saunders.civ@mail.mil at least five (5) business days prior to the meeting so that appropriate arrangements can be made.

Procedures for Providing Public Comments: Pursuant to 41 CFR 102-3.105(j) and 102-3.140, and section 10(a)(3) of the Federal Advisory Committee Act of 1972, the public or interested organizations may submit written comments to the Panel about its mission and topics pertaining to this public session. Written comments must be received by the Deputy Staff Director at least five (5) business days prior to the meeting date so that they may be made available to the Panel for their consideration prior to the meeting. Written comments should be submitted via email to the address for the Deputy Staff Director given in this notice in the following formats: Adobe Acrobat or Microsoft Word. Please note that since the Panel operates under the provisions of the Federal Advisory Committee Act, as amended, all written comments will be treated as public documents and will be made available for public inspection. If members of the public are interested in making an oral statement, a written statement must be submitted as above along with a request to provide an oral statement. After reviewing the written comments, the Chairperson and the Designated Federal Officer will determine who of the requesting persons will be able to make an oral presentation of their issue during the open portion of this meeting. Determination of who will be making an oral presentation is at the sole discretion of the Committee Chair and the Designated Federal Officer and will depend on time available and relevance to the Committee's activities. Five minutes will be allotted to persons desiring to make an oral presentation. Oral presentations by members of the public will be permitted between 4:10 p.m. and 4:40 p.m. on September 24 and between 4:45 p.m. and 5:00 p.m. on September 25, 2013, in front of the Panel. The number of oral presentations to be made will depend on the number of requests received from members of the public.

Committee's Designated Federal Officer: The Board's Designated Federal Officer is Ms. Maria Fried, Response Systems to Adult Sexual Assault Crimes Panel, 1600 Pentagon, Room 3B747, Washington, DC 20301-1600.

Dated: August 23, 2013.
Aaron Siegel,
Alternate OSD Federal Register Liaison Officer, Department of Defense.

[FR Doc. 2013-21056 Filed 8-28-13; 8:45 am]

BILLING CODE 5001-06-P